DEPARTMENT OF COMMERCE

International Trade Administration

Export Trade Certificate of Review

ACTION: Notice of revocation of Export Trade Certificate of Review No. 99-00004.

SUMMARY: The Secretary of Commerce issued an Export Trade Certificate of Review to USXT, Inc. on November 17, 1999. Because this certificate holder has failed to file an annual report as required by law, the Secretary is revoking the certificate. This notice summarizes the notification letter sent to USXT, Inc.

FOR FURTHER INFORMATION CONTACT: Jeffrey Anspacher, Director, Office of Export Trading Company Affairs, International Trade Administration, 202/482-5131. This is not a toll-free number.

SUPPLEMENTARY INFORMATION: Title III of the Export Trading Company Act of 1982 (“the Act”) (Pub. L. 97-290, 15 U.S.C. 4011-21) authorizes the Secretary of Commerce to issue export trade certificates of review. The regulations implementing Title III (“the Regulations”) are found at 15 CFR part 325. Pursuant to this authority, a certificate of review was issued on November 17, 1999 to USXT, Inc.

A certificate holder is required by law to submit to the Department of Commerce annual reports that update financial and other information relating to business activities covered by its certificate (section 308 of the Act, 15 U.S.C. 4018, section 325.14(a) of the Regulations, 15 CFR 325.14(a)). The annual report is due within 45 days after the anniversary date of the issuance of the Certificate of Review (sections 325.14(b) of the Regulations, 15 CFR 325.14(b)). Failure to submit a complete annual report may be the basis for revocation (sections 325.10(a) and 325.14(c) of the Regulations, 15 CFR 325.10(a)(3) and 325.14(c)).

On November 7, 2002, the Department of Commerce sent to USXT, Inc. a letter containing annual report questions with a reminder that its annual report was due on January 1, 2003. Additional reminders were sent on March 31, 2003 and on April 11, 2003. The Department has received no written response from USXT, Inc. to any of these letters.

On May 5, 2003, and in accordance with section 325.10(c)(2) of the Regulations, (15 CFR 325.10 (c)(2)), the Department of Commerce sent a letter by certified mail to notify USXT, Inc. that the Department was formally initiating the process to revoke its certificate for failure to file an annual report. In addition, a summary of this letter allowing USXT, Inc. thirty days to respond was published in the Federal Register on July 17, 2003 at 68 FR 42397. Pursuant to 325.10(c)(2) of the Regulations (15 CFR 325.10(c)(2)), the Department considers the failure of USXT, Inc. to respond to be an admission of the statements contained in the notification letter.

The Department has determined to revoke the certificate issued to USXT, Inc. for its failure to file an annual report. The Department has sent a letter, dated August 19, 2003, to notify USXT, Inc. of its determination. The revocation is effective thirty (30) days from the date of publication of this notice. Any person aggrieved by this decision may appeal to an appropriate U.S. district court within 30 days from the date on which this notice is published in the Federal Register 325.10(c)(4) and 325.11 of the Regulations, 15 CFR 324.10(c)(4) and 325.11 of the Regulations, 15 CFR 325.10(c)(4) and 325.11.

Dated: August 19, 2003.
Jeffrey Anspacher,
Director, Office of Export Trading Company Affairs.

[FR Doc. 03-21559 Filed 8-21-03; 8:45 am]

BILLING CODE 3510-DR-P